DEPARTMENT OF TRANSPORTATION

Pipeline and Hazardous Materials Safety Administration

49 CFR Part 192

[Docket No. PHMSA-2011-0009]

RIN 2137-AE71

Pipeline Safety: Expanding the Use of Excess Flow Valves in Gas Distribution Systems to Applications Other Than Single-Family Residences

AGENCY: Pipeline and Hazardous Materials Safety Administration (PHMSA), DOT.

ACTION: Advance notice of proposed rulemaking (ANPRM).

SUMMARY: The National Transportation Safety Board (NTSB) has made a safety recommendation to PHMSA that excess flow valves be installed in all new and renewed gas service lines, regardless of a customer's classification, when the operating conditions are compatible with readily available valves. In response to that recommendation, PHMSA is seeking public comment on several issues relating to the expanded use of excess flow valves (EFVs) in gas distribution systems. PHMSA is also interested in seeking comment from gas distribution system operators on their experiences using EFVs, particularly from a cost-benefit perspective.

DATES: Persons interested in submitting written comments on this ANPRM must do so by February 18, 2012. PHMSA will consider late filed comments so far as practicable.

ADDRESSES: You may submit comments identified by the docket number PHMSA-2011-0009 by any of the following methods:

• Federal eRulemaking Portal: http://www.regulations.gov. Follow the online instructions for submitting comments.

• Fax: 1-(202) 493-2251.

• Mail: Hand Delivery: U.S. Department of Transportation (DOT), Docket Management System, West Building Ground Floor, Room W12-140, 1200 New Jersey Avenue SE., Washington, DC 20590-0001 between 9 a.m. and 5 p.m., Monday through Friday, except Federal holidays.

Instructions: If you submit your comments by mail, submit two copies. To receive confirmation that PHMSA received your comments, include a self-addressed stamped postcard.

Note: Comments are posted without changes or edits to http://www.regulations.gov, including any personal information provided. There is a privacy statement published on http://www.regulations.gov.

Privacy Act Statement

Anyone can search the electronic form of comments received in response to any of our dockets by the name of the individual submitting the comment (or signing the comment, if submitted on behalf of an association, business, labor union, etc.). DOT's complete Privacy Act Statement was published in the Federal Register on April 11, 2000 (65 FR 19477).

FOR FURTHER INFORMATION CONTACT: Mike Israni, by telephone at (202) 366-4571, by fax at (202) 366-4566, or by mail at DOT, PHMSA, 1200 New Jersey Avenue SE., PHP-1, Washington, DC 20590-0001.

SUPPLEMENTARY INFORMATION:

I. Background

Congress authorized Federal regulation of gas pipeline facilities and PHMSA has statutory authority to prescribe safety standards and practices for gas pipeline facilities. That authorization is codified in the Pipeline Safety Regulations (PSR) (49 U.S.C. 60101 et seq.), a series of statutes that are administered by the DOT, PHMSA.

On October 24, 1992, Congress enacted the Pipeline Safety Act (PSA) of 1992 (Pub. L. 102-508). Section 104 of the PSA (codified as amended at 49 U.S.C. 60110) stated, in relevant part:

(1) Not later than 18 months after the date of the enactment of this subsection, the Secretary [of Transportation] shall issue regulations prescribing the circumstances, if any, under which operators of natural gas distribution systems must install excess flow valves in such systems. In prescribing such circumstances, the Secretary shall consider—

(A) The system design pressure and the system operating pressure;

(B) The types of customers to which the distribution system supplies natural gas, including hospitals, schools, and commercial enterprises;

(C) The technical feasibility and cost of the installation of such valves;

(D) The public safety benefits of the installation of such valves;

(E) The location of customer meters; and

(F) Such other factors as the Secretary determines to be relevant.

Section 104 further stated, in relevant part:

(2) Not later than two years after the date of the enactment of this subsection, the Secretary [of Transportation] shall issue regulations requiring operators of natural gas distribution systems to notify, in writing, their customers with lines in which excess flow valves are not required by law, but can be installed in accordance with the performance standards developed under paragraph (4)—

(A) Of the availability of excess flow valves for installation in such systems,

(B) Of any safety benefits to be derived from the installation, and

(C) Of any costs associated with the installation.

Such regulations shall provide that, except in circumstances under which the installation is required under paragraph (1), excess flow valves shall be installed at the request of a customer if the customer will pay all costs associated with the installation.

Finally, section 104 stated, in relevant part:

(3) Not later than 18 months after the date of the enactment of this paragraph, the Secretary [of Transportation] shall develop standards for the performance of excess flow valves used to protect lines in natural gas distribution systems. Such standards shall be incorporated into any regulations issued by the Secretary under this subsection. All installations of excess flow valves shall be made in accordance with such standards.

On June 20, 1996 (61 FR 31449), PHMSA's predecessor agency, the Research and Special Programs Administration (RSPA), issued a final rule on the installation of EFVs in single-family-residence service lines. RSPA determined that the mandatory installation of EFVs was not justified under any circumstances, primarily because the costs of such a requirement far exceeded the benefits. RSPA also adopted a standard for the performance and installation of EFVs in single-family-residence service lines (codified at 49 CFR 192.381). In a later final rule, dated February 3, 1998 (63 FR 5464), RSPA adopted a requirement that written notice about the availability of EFVs be provided to customers with single-family-residence service lines that operate at or above 10 pounds per square inch gauge (psig), and that those customers be further advised that the operator would install an EFV at the customer's expense.

Part 192 of the PSR in combination with measures mandated in the Distribution Integrity Management Program (DIMP) and continual monitoring of leaks has increased pipeline safety significantly in recent years. PHMSA continues to review the way pipelines are regulated and adopt strategies to improve pipeline safety. Programs such as damage prevention, public awareness, and operator qualifications have enhanced pipeline safety. Unfortunately, on rare occasions, the layers of protection fail and the results can have serious consequences.

On July 7, 1998, a natural gas explosion occurred at a single family residence in South Riding, Virginia, killing one person and injuring three others. NTSB investigated the incident and determined that the cause of the explosion was a service line failure. NTSB further concluded that an EFV would have cut off the flow of gas in the service line and prevented the explosion. Citing that conclusion, on June 22, 2001, the NTSB issued Safety Recommendation P-01-2 (SR P-01-2). SR P-01-2 recommended “that excess flow valves be installed in all new and renewed gas service lines, regardless of a customer's classification, when the operating conditions are compatible with readily available valves.”

On December 29, 2006, Congress enacted the Pipeline Inspection, Protection, Enforcement, and Safety (PIPES) Act of 2006 (Pub. L. 109-468). Section 9 of the PIPES Act (codified at 49 U.S.C. 60109(e)) stated that “[n]ot later than December 31, 2007, the Secretary [of Transportation] shall prescribe minimum standards for integrity management programs for distribution pipelines.” Section 9 further stated that those:

[M]inimum standards shall include a requirement for an operator of a natural gas distribution system to install an excess flow valve on each single family residence service line connected to such system if—

(i) The service line is installed or entirely replaced after June 1, 2008;

(ii) The service line operates continuously throughout the year at a pressure not less than 10 pounds per square inch gauge;

(iii) The service line is not connected to a gas stream with respect to which the operator has had prior experience with contaminants the presence of which could interfere with the operation of an excess flow valve;

(iv) The installation of an excess flow valve on the service line is not likely to cause loss of service to the residence or interfere with necessary operation or maintenance activities, such as purging liquids from the service line; and

(v) An excess flow valve meeting performance standards developed under section 60110(e) of title 49, United States Code, is commercially available to the operator, as determined by the Secretary.

On December 4, 2009, (74 FR 63934) PHMSA issued a final rule with minimum standards for distribution pipeline integrity management. Those standards included a mandatory installation requirement for EFVs (codified at 49 CFR 192.383):

(b) Installation required. An EFV installation must comply with the performance standards in § 192.381. The operator must install an EFV on any new or replaced service line serving a single-family residence after February 12, 2010, unless one or more of the following conditions is present:

(1) The service line does not operate at a pressure of 10 psig or greater throughout the year;

(2) The operator has prior experience with contaminants in the gas stream that could interfere with the EFV's operation or cause loss of service to a residence;

(3) An EFV could interfere with necessary operation or maintenance activities, such as blowing liquids from the line; or

(4) An EFV meeting performance standards in § 192.381 is not commercially available to the operator.

A requirement that operators report the number of installed EFVs on annual basis was also included in that regulation.

In Section 9 of the PIPES Act, Congress mandated that EFVs be installed on service lines serving single family residences. Other kinds of service lines, including those that serve branched single family residences, apartment buildings, other multi-residential dwellings, commercial properties, or industrial facilities, are not subject to that statutory mandate, even though such lines are susceptible to the same risks as single-family-residence service lines. Though Congress has not expressly mandated the use of EFVs to applications other than single-family residences, PHMSA has broad authority under 49 U.S.C. 60102 to prescribe safety standards requiring that EFVs be installed on those lines in appropriate cases. Operators of gas distribution systems can also expand the use of EFVs to applications other than service lines for single family residences as part of their broader obligation to develop and implement an integrity management program (49 CFR part 192 subpart B).

II. Interim Evaluation: Response to NTSB Recommendation To Use EFVs in Applications Other Than Service Lines Serving One Single Family Residence

In June and August of 2009, PHMSA held public meetings on NTSB's recommendation in SR P-01-2 to expand the use of EFVs. The meeting participants included the National Association of Regulatory Utility Commissioners, the National Association of Pipeline Safety Representatives, the International Association of Fire Chiefs (IAFC) the National Association of State Fire Marshals (NASFM), natural gas distribution operators, trade associations, manufacturers, and the Pipeline Safety Trust. As a result of these meetings, PHMSA issued a report titled, “Interim Evaluation: NTSB Recommendation P-01-2 Excess Flow Valves in Applications Other Than Service Lines Serving One Single Family Residence” (Interim Evaluation) (available in Docket No.: PHMSA-2011-0009 at http://www.regulations.gov.). The Interim Evaluation incorporates input from the meeting participants and addresses issues related to the installation of EFVs on branched service lines serving more than one single family residence, multi-family residential dwellings such as apartments, commercial services and industrial applications on systems which operate above 10 psig where outside force damage could occur to a DOT regulated service. The report provides background on NTSB's recommendations and PHMSA's regulatory and non-regulatory initiatives targeted at reducing the occurrence of failures on service lines. The Interim Evaluation also describes the characteristics of U.S. distribution systems, EFVs' safety function to mitigate the consequences of an incident, industry's operating experience, the technical challenges, and the commercial availability of EFVs for installation in services other than single family residences. The report explores alternatives (e.g., curb valves) to the installation of an EFV and discusses the information that is needed to develop an economic analysis. The report also considers the need for adoption and enhancement of EFV technical standards or guidelines.

Curb valves, essentially a service valve, often are installed close to the main for larger services which serve public buildings such as schools, churches, commercial buildings, as well as services with indoor residential meters. The location and operability of these valves in an emergency are relevant in terms of their use as a viable alternative to EFVs.

III. Expanded Use of EFVs

In recent years, PHMSA has expanded regulatory requirements aimed at reducing the risk of pipeline incidents. These measures have in large part been directed to lowering the likelihood of failures by preventing damage to pipelines. EFVs do not prevent accidents but do mitigate the consequences of incidents by greatly reducing the amount of gas released to the atmosphere when significant damage occurs. EFVs help mitigate the potential consequences of a high rate, high volume gas release. Where installed, EFVs are complementary to damage prevention programs and other pipeline safety efforts that focus on preventing accidents caused by outside forces. The following reasons have been identified for expanding the use of EFVs to additional classes of service:

• Likelihood of EFV mitigating the consequences of an incident: Based on incident report information submitted to PHMSA, during March 2004-December 2009, approximately 148 out of a total of 914 incidents (16%) were located on a service or meter/regulator set and potentially severe enough to trigger an EFV if one were present. These incidents were reported as leaks with a puncture, rupture, or a catastrophic failure.

• Likelihood of an incident occurring on a service line other than a single family residence: Of the 148 incidents deemed to be candidates for prevention by an EFV in the report, 87 (59%) were serving customers other than single family residences. Service lines serving other than a single-family residence represent approximately 30% of new and replaced natural gas service lines. Therefore, there is a much greater probability that failure of a service line other than a single family residence will result in an incident.

• Limitations to the Effectiveness of Damage Prevention Efforts to Prevent an Incident: The frequency of service line incidents caused by excavation damage has decreased, but there has not been a corresponding reduction in consequences, (i.e., in terms of fatalities, injuries, fires, explosion or property damage). Furthermore, one-third of the incidents in which an EFV might have mitigated the consequences and for which the cause was listed as excavation damage occurred after a One-Call notification. While incidents occur less frequently when a One-Call notification is placed, the One-Call notification system does not eliminate incidents. PHMSA's evaluation found that the pipeline was marked in 80% of incidents where the operator received prior notification. Such incidents could be the result of unmapped facilities, un-locatable facilities, mismarked pipelines, excavators that fail to call in, excavators that are exempt from one-call requirements and do not call in, inadequate depth-of-cover, etc.

• Difficulty in Preventing Incidents Caused by Natural Forces and Other Outside Forces: Of the incidents that were candidates for EFV mitigation and where EFVs are not currently required, almost 8% were caused by natural forces and 25% were caused by other, non-excavation outside forces. Operators have less ability to prevent incidents from occurring due to these causes than from excavation damage.

• Views of the NASFM and the IAFCs: The associations' position on the installation of EFVs is that uncontrolled gas leaks pose a significant hazard to firefighters, emergency responders, and the public. According to these associations, the presence of an EFV can be a critical factor in suppressing a gas leak at the scene of an incident, where a first responder's ability to control gas flow is limited and dependent on the arrival of gas company personnel. While not frequently activated, an EFV is a critical tool in the event of a large volume release.

• Commercial Availability of EFVs for Other Applications: The EFV device is relatively simple and experience demonstrates that they operate reliably when sized appropriately for operating conditions. The principles of operation remain the same as sizes become larger and trip points are increased. EFVs are currently manufactured for the vast majority of services.

PHMSA has identified several situations where the installation of an EFV may not be technically practicable. These technical challenges are described in detail in Section 9 of the Interim Evaluation, “Technical Challenges Associated with Use of EFVs in Non-Single Family Residence Service.” In these situations, the installation of a readily-accessible curb valve and box might serve a similar safety function to an EFV. Although not instantaneous, a curb valve could facilitate the manual shut-off of natural gas service in an emergency and provide an alternative solution to an EFV. However, use of curb valves requires consideration of additional factors such as:

• EFVs shut-off the flow of gas instantaneously when the gas flow exceeds design limits. Curb valves must be manually closed. The incident may have already occurred before the curb valve can be closed.

• When the service is very short, the curb valve may be too close to a burning building to be safely operated.

• Curb valves can be used to shut-off the flow of gas under any flow conditions. EFVs are intended to shut-off the flow of gas when there has been a catastrophic failure to the service or its appurtenances. In situations when less severe damage occurs, an incident may be prevented by closing the curb valve to stop the flow of gas.

PHMSA has identified several issues related to the costs and benefits associated with mandatory EFV or curb valve installation that should be considered when performing the economic analysis (See Section 10 of the Interim Evaluation “Economic Analysis Considerations”). The expected benefits are preventing or reducing incident consequences. The magnitude of the expected benefits is believed to be dependent on the estimated number of incidents impacted and incident consequences avoided if an EFV or curb valve had been installed on a service. The primary incident consequences that would be reduced are deaths, injuries, and property damage. Additional benefits would be an expected reduction in the number of fires, explosions, and evacuations occurring at incidents, and the quantity of gas lost during incidents. Since the subset of incidents whose consequences potentially could have been mitigated if an EFV was installed versus those that potentially could have been mitigated by a curb valve is different, the magnitude of the expected benefits will also be different.¹

¹ Data found at http://primis.phmsa.dot.gov/comm/reports/safety/PSI.html.

Expected costs include the installation and maintenance of the EFV or curb valve. Installation costs include material, labor, design, supply chain management, and training. For EFVs, maintenance costs include the cost of analyzing the cause of failure and the cost of replacing an EFV and any other associated costs. Possible EFV failures include false closure (closed when not intended), failure to close (did not close when service was severely damaged), and failure to reset (EFV did not reset after service was put back in operation). Operators may also need to replace EFVs when a customer's load increases above the capacity of the currently installed EFV. For curb valves, maintenance costs include periodically inspecting the curb valve to ensure it is operational and inspecting the box to ensure it is free of debris. Curb boxes may also require adjusting after surface condition occurrences such as road resurfacing or landscaping.

PHMSA has identified several potential areas in which enhanced or expanded technical standards and guidance for the performance, operation, installation, identification, and testing of EFVs could be valuable regardless of whether PHMSA decides to expand the classes of services requiring an EFV (See Section 4, “Technical Standards and Guidelines for EFVs” of the Interim Evaluation). Currently, § 192.381 requires operators to use EFVs which are manufactured and tested by the manufacturer according to an industry specification or to the manufacturer's written specification.

While not incorporated by reference into the pipeline safety regulations, there are three technical standards that address the specification, manufacturing, and testing of EFVs. These standards are:

i. “Manufacturers Standardization Society (MSS) SP-115-2006—Design, Performance & Test.” ²

² Manufacturers Standardization Society (MSS) SP-115-2006 “Design, Performance & Test” http://www.mss-hq.org/Store/index.cfm.

ii. “ASTM International (ASTM) F1802-04—Standard Test Method for Performance Testing of Excess Flow Valves.” ³

³ American Society for Testing Materials (ASTM) F1802-04 “Standard Test Method for Performance Testing of Excess Flow Valves” http://www.astm.org/.

iii. “ASTM International (ASTM) F2138-01—Standard Specification for Excess Flow Valves for Natural Gas Service.” ⁴

⁴ American Society for Testing Materials (ASTM) F2138 “Standard Specification for Excess Flow Valves for Natural Gas Service” http://www.astm.org/.

These standards may not be applicable to all sizes and pressure ratings of EFVs that would be needed if they were mandated for use in applications other than single family residences and would likely need to be expanded to cover other sizes and pressure ratings. A number of factors affect the performance and reliability of EFVs such as: installation location, configuration, selection, sizing, identification, installation method, and operation. ASTM International (ASTM) F2138 “Standard Specification for Excess Flow Valves for Natural Gas Service” addresses some of these factors at a high level, but not in depth.

These standards may need to be expanded to better address the selection, installation, and performance testing of EFVs for a variety of design considerations and service line configurations. Operating conditions and system configurations under which EFVs are not compatible or potentially not advisable may need to be identified and integrated into the guidelines. PHMSA's recommended approach is to select and size EFVs with a trip point less than, but closest to, the gas flow rate of a full service line pipe break.

If these standards and guidance are enhanced or developed, PHMSA may consider if they are adequate to be incorporated by reference into the Pipeline Safety Regulations. Incorporating standards by reference provides PHMSA a mechanism to ensure that any changes to the standards do not lessen public safety. Lastly, the Interim Evaluation identifies areas where additional data is needed to further review EFV issues and to perform a cost-benefit analysis.

PHMSA will consider all comments received from the ANPRM plus any additional information available, and will finalize the Interim Evaluation after publication of this ANPRM. The Interim Evaluation, which was peer reviewed by PHMSA, NTSB and representatives of National Association of Regulatory Utility Commissioners, the National Association of Pipeline Safety Representatives, IAFC, NASFM, natural gas distribution operators, trade associations and the Pipeline Safety Trust will document the basis for any PHMSA decision and response to NTSB with respect to the EFV issue.

IV. Advance Notice of Proposed Rulemaking

Although not mandated by Congress, PHMSA, in a direct response to the NTSB recommendation P-01-2, seeks public comment regarding the technical challenges, and the potential costs and the potential benefits of any expanded requirement to use EFVs in applications other than service lines serving single family residences. PHMSA additionally seeks comment as to whether to establish and/or adopt technical standards or guidance for the performance, specification, manufacturing, testing, installation, identification, and operation of EFVs. Specifically, PHMSA is asking for comment on the following issues:

1. Technical Challenges—Operators have identified technical challenges to installing EFVs on services other than single family residences. These challenges include (1) the effect of changing gas usage patterns; (2) snap loads; (3) business-critical gas supply applications; (4) system configuration; (5) pressure ratings; and (6) size of commercially available EFVs.

a. Does Section 9 “Technical Challenges Associated with Use of EFVs in Non-Single Family Residence Service” fully and accurately explain the technical challenges of EFVs in these other applications?

b. Are there additional technical challenges, obstacles to implementation, or reliability issues that should be considered for these other applications?

c. What are the technical challenges to installing and maintaining a curb valve when an EFV is not technically feasible?

d. What are the limitations to using a curb valve to stop the flow of gas during emergency situations where EFVs are not technically feasible?

e. What additional cases may exist where the installation of EFVs may not be feasible or practical other than those listed in Section 10.3.1, “Feasibility/Practicality”?

2. Economic Analysis Considerations (Potential Costs and Benefits)—In addition, PHMSA requests commenters to provide information and supporting data related to: the potential costs of modifying the existing regulatory requirements pursuant to the commenters suggestions; the potential quantifiable safety and societal benefits of modifying the existing regulatory requirements; the potential impacts on small business of modifying the existing regulatory requirements; and the potential environmental impacts of modifying the existing requirements.

The economic analysis of installation of EFVs on services other than single family residences involves challenges related to quantification and monetization of costs and/or benefits including distributional affects. It is important as part of the economic analysis to consider both benefits and costs that are distributed among sub-populations of particular concern so that decision makers can properly consider them along with the effects on economic efficiency. Therefore, it will be important to consider input from a variety of stakeholders. OMB A-4 (titled “REGULATORY ANALYSIS”) provides additional information about benefit-cost analyses and cost-effectiveness analyses. Any cost benefit analysis prepared in response to this ANPRM will be consistent with the guidance outlined in OMB Circular A-4, and any related policies.

a. Categories of Services To Be Considered—If the requirement for EFVs were expanded to other categories of services, would the classification described in Section 10.3.2, “Categories of Services” in the Interim Report be practicable to implement? If not, why not?

b. Cost Factors—Are there any other issues related to costs associated with mandatory EFV or curb valve installation that should be considered when performing the benefit-cost analysis, other than those listed in Section 10.4, “Defining Cost Factors” of the Interim Report?

c. Who should be expected to pay for the installation and maintenance of EFV or other alternative and why?

d. Are there any opportunity costs associated with the installation of EFVs? Does there have to be a particular time of day when installation occurs? If so, why? How long does installation take?

e. Benefits Factors:

i. Are there any other issues related to benefits associated with mandatory EFV or curb valve installation that should be considered when performing the benefit-cost analysis, other than those listed in Section 10.5 “Defining Benefit Factors” of the Interim Report?

ii. Is the method used in Section 2.3.3, “PHMSA Evaluation of Data Related to Incidents on Services,” of the Interim Report appropriate to quantify the expected number of incidents or the consequences averted, and to evaluate the risks of such incident occurring? Do the parameters used to evaluate incidents for the likelihood of prevention by an EFV (i.e. location of the leak (incidents on service lines), reported cause of the leak (leaks due to damage), maximum allowable operating pressure (MAOP) of the system (>10 PSIG),additional information about the leak's characteristics (large leaks and ruptures) and classification of customer (customers other than stand-alone service line serving a single family residence)) satisfactorily allow a conclusion to be made?

3. Technical Standards and Guidance for EFVs—OMB Circular A-119 “Federal Participation in the Development and Use of Voluntary Consensus Standards and in Conformity Assessment Activities” directs Federal agencies to utilize voluntary standards both domestic and international, whenever feasible and consistent with law and regulation. The current DOT regulation applicable to excess flow valve standards is 49 CFR 192.381 which requires excess flow valves to be manufactured and tested by the manufacturer according to an industry specification or to the manufacturer's written specification but does not prescribe a specification. Without a standard prescribing EFV specification, the possibility exists that EFVs could be installed that do not meet currently accepted specifications.

4. Additionally, a number of factors affect the performance and reliability of EFVs such as installation location, configuration, selection, sizing, or installation method. PHMSA has determined that current industry standards do not address these factors in detail. PHMSA therefore requests comment on industry standards to determine the need and availability of consensus standards for EFV utilization.

a. Should PHMSA incorporate by reference the following technical standards? If not, why not?

b. Are there any alternatives to the standards listed below?

i. “Manufacturers Standardization Society (MSS) SP-115-2006—Design, Performance & Test.” ⁵

⁵ Manufacturers Standardization Society (MSS) SP-115-2006 “Design, Performance & Test” http://www.mss-hq.org/Store/index.cfm.

ii. “ASTM International (ASTM) F1802-04—Standard Test Method for Performance Testing of Excess Flow Valves.” ⁶

⁶ American Society for Testing Materials (ASTM) F1802-04 “Standard Test Method for Performance Testing of Excess Flow Valves” http://www.astm.org/.

iii. “ASTM International (ASTM) F2138-01—Standard Specification for Excess Flow Valves for Natural Gas Service.” ⁷

⁷ American Society for Testing Materials (ASTM) F2138 “Standard Specification for Excess Flow Valves for Natural Gas Service” http://www.astm.org/.

c. Are guidelines or technical standards needed for developing and if so, why?:

i. A standard approach to sizing, specifying, performance testing, and installing EFVs for a variety of design considerations and service line configurations.

ii. Criteria for identifying operating conditions and system configurations under which EFVs are not compatible or potentially not advisable.

In addition, PHMSA requests commenters to provide information and supporting data related to:

• The potential costs of modifying the existing regulatory requirements pursuant to the commenter's suggestions.

• The potential quantifiable safety and societal benefits of modifying the existing regulatory requirements.

• The potential impacts on small businesses of modifying the existing regulatory requirements.

• The potential environmental impacts of modifying the existing regulatory requirements.

V. Regulatory Notices

A. Executive Order 12866, Executive Order 13563, and DOT Regulatory Policies and Procedures

Executive Orders 12866 and 13563 require agencies to regulate in the “most cost-effective manner,” to make a “reasoned determination that the benefits of the intended regulation justify its costs,” and to develop regulations that “impose the least burden on society.” We therefore request comments, including specific data if possible, concerning the costs and benefits of revising the pipeline safety regulations to accommodate any of the changes suggested in this ANPRM.

B. Executive Order 13132: Federalism

Executive Order 13132 requires agencies to assure meaningful and timely input by State and local officials in the development of regulatory policies that may have a substantial, direct effect on the States, on the relationship between the National Government and the States, or on the distribution of power and responsibilities among the various levels of government. PHMSA is inviting comments on the effect a possible rulemaking adopting any of the amendments discussed in this document may have on the relationship between National Government and the States.

C. Regulatory Flexibility Act

Under the Regulatory Flexibility Act of 1980 (5 U.S.C. 601 et seq.), we must consider whether a proposed rule would have a significant economic impact on a substantial number of small entities. “Small entities” include small businesses, not-for-profit organizations that are independently owned and operated and are not dominant in their fields, and governmental jurisdictions with populations under 50,000. If your business or organization is a small entity and if adoption of any of the amendments discussed in this ANPRM could have a significant economic impact on your operations, please submit a comment to explain how and to what extent your business or organization could be affected.

D. National Environmental Policy Act

The National Environmental Policy Act of 1969 (NEPA) requires Federal agencies to consider the consequences of Federal actions and to prepare a detailed statement analyzing whether the action significantly affects the quality of the human environment. Interested parties are invited to address the potential environmental impacts of this ANPRM. PHMSA is particularly interested in comments about compliance measures that would provide greater benefit to the human environment or alternative actions the agency could take that would provide beneficial environmental impacts.

E. Executive Order 13175: Consultation and Coordination With Indian Tribal Governments

Executive Order 13175 requires agencies to assure meaningful and timely input from Indian Tribal government representatives in the development of rules that “significantly or uniquely affect” Indian communities and that impose “substantial and direct compliance costs” on such communities. PHMSA invites Indian Tribal governments to provide comments on any aspect of this ANPRM that may affect Indian communities.

F. Paperwork Reduction Act

Under 5 CFR part 1320, PHMSA analyzes the paperwork burdens of any information collection required by a rulemaking. PHMSA invites comment on the need for collection of information and the associated paperwork burdens, if any.

Authority: 49 U.S.C. 60101 et seq.; 49 CFR 1.53.

Issued in Washington, DC, on November 21, 2011.
Jeffrey D. Wiese,
Associate Administrator for Pipeline Safety.

[FR Doc. 2011-30330 Filed 11-23-11; 8:45 am]

BILLING CODE 4910-60-P